GENERAL ACCOUNTING OFFICE

Appointments to the Medicare Payment Advisory Commission

AGENCY: General Accounting Office (GAO).

ACTION: Notice of appointments.

SUMMARY: The Balanced Budget Act of 1997 established the Medicare Payment Advisory Commission (MedPAC) and gave the Comptroller General responsibility for appointing its members. This notice announces six appointments to fill the vacancies occurring this year.

DATES: Appointments are effective May 1, 2000 through April 30, 2003.

ADDRESSES:

GAO: 441 G Street, NW, Washington, DC 20548

MedPAC: 1730 K Street, NW, Suite 800, Washington, DC 20006

FOR FURTHER INFORMATION CONTACT:

GAO: Molly Ryan, 202/512-3592

MedPAC: Murray N. Ross, Ph.D., 202/653-7220

SUPPLEMENTARY INFORMATION: To fill this year's vacancies I am announcing the following MedPAC appointments:

Autry O.V. “Pete” DeBusk; Glenn M. Hackbarth; Alan R. Nelson; Robert D. Reischauer; David A. Smith; and Ray E. Stowers

(Sec. 4022, Pub. L. 105-33, 111 Stat. 251, 350)
David M. Walker,
Comptroller General of the United States.

[FR Doc. 00-14068 Filed 6-5-00; 8:45 am]

BILLING CODE 1610-02-M